DEPARTMENT OF VETERANS AFFAIRS

Veterans' Advisory Committee on Rehabilitation, Notice of Charter Renewal

This gives notice under the Federal Advisory Committee Act (Pub. L. 92-463), dated October 6, 1972, that the Veterans' Advisory Committee on Rehabilitation has been renewed for a 2-year period beginning November 9, 2000, through November 9, 2002.

Dated: November 9, 2000.
By direction of the Secretary.
Marvin R. Eason,
Committee Management Officer.

[FR Doc. 00-29613 Filed 11-17-00; 8:45 am]

BILLING CODE 8320-01-M